DEPARTMENT OF HOUSING AND URBAN DEVELOPMENT

[Docket No. FR-5544-D-02]

Order of Succession for the Office of Fair Housing and Equal Opportunity

AGENCY: Office of the Assistant Secretary for Fair Housing and Equal Opportunity, HUD.

ACTION: Notice of Order of Succession.

SUMMARY: In this notice, the Assistant Secretary for Fair Housing and Equal Opportunity designates the Order of Succession for the Office of Fair Housing and Equal Opportunity. This Order of Succession supersedes all previous Orders of Succession for the Office of Fair Housing and Equal Opportunity.

DATES: Effective Date: November 16, 2011.

FOR FURTHER INFORMATION CONTACT: Everard B. Mattox, Administrative Officer, Resource Management Division, Office of Fair Housing and Equal Opportunity, Department of Housing and Urban Development, 451 Seventh Street SW., Room 5124, Washington DC 20410, telephone number (202) 708-2701. (This is not a toll-free number.) This number may be accessed through TTY by calling the toll-free Federal Relay Service at 1-(800)-877-8339.

SUPPLEMENTARY INFORMATION: The Assistant Secretary for the Office of Fair Housing and Equal Opportunity is issuing this Order of Succession of officials authorized to perform the functions and duties of the Office of Fair Housing and Equal Opportunity when, by reason of absence, disability, or vacancy in office, the Assistant Secretary for the Office of Fair Housing and Equal Opportunity is not available to exercise the powers or perform the duties of the office. This Order of Succession is subject to the provisions of the Federal Vacancies Reform Act of 1998 (5 U.S.C. 3345-3349d). This publication supersedes all previous Orders of Succession for the Office of Fair Housing and Equal Opportunity.

Accordingly, the Assistant Secretary for the Office of Fair Housing and Equal Opportunity designates the following Order of Succession:

Section A. Order of Succession

Subject to the provisions of the Federal Vacancies Reform Act of 1998, during any period when, by reason of absence, disability, or vacancy in office, the Assistant Secretary for the Office of Fair Housing and Equal Opportunity for the Department of Housing and Urban Development is not available to exercise the powers or perform the duties of the Assistant Secretary for the Office of Fair Housing and Equal Opportunity, the following officials within the Office of Fair Housing and Equal Opportunity are hereby designated to exercise the powers and perform the duties of the Office, including the authority to waive regulations:

(1) General Deputy Assistant Secretary for Fair Housing and Equal Opportunity;

(2) Deputy Assistant Secretary for Enforcement and Programs;

(3) Deputy Assistant Secretary for Operations and Management;

(4) Director, Office of Policy, Legislative Initiatives and Outreach;

(5) Director, Office of Enforcement;

(6) Director, Office of Programs; and

(7) Director, Office of Management, Planning and Budget.

These officials shall perform the functions and duties of the office in the order specified herein, and no official shall serve unless all the other officials, whose position titles precede his/hers in this order, are unable to act by reason of absence, disability, or vacancy in office.

Section B. Authority Superseded

This Order of Succession supersedes all previous Orders of Succession for the Assistant Secretary for Fair Housing and Equal Opportunity.

Authority: Section 7(d), Department of Housing and Urban Development Act, 42 U.S.C. 3535(d).

Dated: November 16, 2011.
John Trasviña,
Assistant Secretary for Fair Housing and Equal Opportunity.

[FR Doc. 2011-30754 Filed 11-28-11; 8:45 am]

BILLING CODE 4210-67-P